DEPARTMENT OF HOMELAND SECURITY

Federal Emergency Management Agency

[Docket ID FEMA-2019-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Alabama:
Madison (FEMA Docket No.: B-1904) | City of Madison (19-04-0103P). | The Honorable Paul Finley, Mayor, City of Madison, 100 Hughes Road, Madison, AL 35758. | Engineering Department, 100 Hughes Road, Madison, AL 35758. | Apr. 11, 2019 | 010308
Shelby (FEMA Docket No.: B-1904) | City of Helena (18-04-5164P). | The Honorable Mark R. Hall, Mayor, City of Helena, 816 Highway 52 East, Helena, AL 35080. | City Hall, 816 Highway 52 East, Helena, AL 35080. | Apr. 18, 2019 | 010193
Shelby (FEMA Docket No.: B-1904) | City of Pelham (18-04-5164P). | The Honorable Gary W. Waters, Mayor, City of Pelham, 3162 Pelham Parkway, Pelham, AL 35124. | City Hall, 3162 Pelham Parkway, Pelham, AL 35124. | Apr. 18, 2019 | 010294
Arkansas:
Benton (FEMA Docket No.: B-1900) | City of Rogers (18-06-2232P). | The Honorable Greg Hines, Mayor, City of Rogers, 301 West Chestnut Street, Rogers, AR 72756. | Community Development Department, 301 West Chestnut Street, Rogers, AR 72756. | Apr. 8, 2019 | 050013
Lonoke (FEMA Docket No.: B-1900) | City of Cabot (18-06-0979P). | The Honorable Bill Cypert, Mayor, City of Cabot, 101 North 2nd Street, Cabot, AR 72023. | City Hall, 101 North 2nd Street, Cabot, AR 72023. | Apr. 8, 2019 | 050309
Lonoke (FEMA Docket No.: B-1900) | Unincorporated areas of Lonoke County (18-06-0979P). | The Honorable Doug Erwin, Lonoke County Judge, 301 North Center Street, Lonoke, AR 72086. | Lonoke County Annex Building, 301 North Center Street, Lonoke, AR 72086. | Apr. 8, 2019 | 050448
Colorado:
Arapahoe (FEMA Docket No.: B-1900) | City of Aurora (18-08-0713P). | The Honorable Bob LeGare, Mayor, City of Aurora, 15151 East Alameda Parkway, Aurora, CO 80012. | Public Works Department, 15151 East Alameda Parkway, Aurora, CO 80012. | Apr. 12, 2019 | 080002
Arapahoe (FEMA Docket No.: B-1904) | City of Aurora (18-08-0814P). | The Honorable Bob LeGare, Mayor, City of Aurora, 15151 East Alameda Parkway, Aurora, CO 80012. | Public Works Department, 15151 East Alameda Parkway, Aurora, CO 80012. | Apr. 19, 2019 | 080002
Boulder (FEMA Docket No.: B-1900) | City of Boulder (18-08-0892P). | The Honorable Suzanne Jones, Mayor, City of Boulder, 1777 Broadway Street, Boulder, CO 80306. | Central Records Department, 1777 Broadway Street, Boulder, CO 80306. | Mar. 26, 2019 | 080024
El Paso (FEMA Docket No.: B-1900) | Unincorporated areas of El Paso County (18-08-0702P). | The Honorable Darryl Glenn, President, El Paso County Board of Commissioners, 200 South Cascade Avenue, Suite 100, Colorado Springs, CO 80903. | Pikes Peak Regional Building Department, 2880 International Circle, Colorado Springs, CO 80910. | Apr. 4, 2019 | 080059
El Paso (FEMA Docket No.: B-1904) | Unincorporated areas El Paso County (18-08-0914P). | The Honorable Darryl Glenn, President, El Paso County Board of Commissioners, 200 South Cascade Avenue, Suite 100, Colorado Springs, CO 80903. | El Paso County Building Department, 2880 International Circle, Colorado Springs, CO 80910. | Apr. 18, 2019 | 080059
El Paso (FEMA Docket No.: B-1904) | Unincorporated areas El Paso County (18-08-1059P). | The Honorable Darryl Glenn, President, El Paso County Board of Commissioners, 200 South Cascade Avenue, Suite 100, Colorado Springs, CO 80903. | El Paso County Building Department, 2880 International Circle, Colorado Springs, CO 80910. | Apr. 17, 2019 | 080059
Summit (FEMA Docket No.: B-1900) | Town of Silverthorne (18-08-0559P). | The Honorable Ann-Marie Sandquist, Mayor, Town of Silverthorne, P.O. Box 1309, Silverthorne, CO 80498. | Public Works Department, 264 Brian Avenue, Silverthorne, CO 80498. | Mar. 25, 2019 | 080201
Florida
Collier (FEMA Docket No.: B-1900) | Unincorporated areas of Collier County (18-04-5751P). | The Honorable Andy Solis, Chairman, Collier County Board of Commissioners, 3299 Tamiami Trail East, Suite 303, Naples, FL 34112. | Collier County Growth Management Department, 2800 North Horseshoe Drive, Naples, FL 34104. | Mar. 29, 2019 | 120067
Lee (FEMA Docket No.: B-1900) | City of Sanibel(18-04-6717P). | The Honorable Kevin Ruane, Mayor, City of Sanibel, 800 Dunlop Road, Sanibel, FL 33957. | Planning and Code Enforcement Department, 800 Dunlop Road, Sanibel, FL 33957. | Apr. 12, 2019 | 120402
Manatee (FEMA Docket No.: B-1900) | Unincorporated areas of Manatee County (18-04-1654P). | The Honorable Priscilla Trace, Chair, Manatee County Board of Commissioners, P.O. Box 1000, Bradenton, FL 34206. | Manatee County Building and Development Services Department, 1112 Manatee Avenue West, Bradenton, FL 34205. | Apr. 8, 2019 | 120153
Monroe (FEMA Docket No.: B-1904) | Village of Islamorada (18-04-7178P). | The Honorable Chris Sante, Mayor, Village of Islamorada, 86800 Overseas Highway, Islamorada, FL 33036. | Building Department, 86800 Overseas Highway, Islamorada, FL 33036. | Apr 19, 2019 | 120424
Georgia: Chatham (FEMA Docket No.: B-1900) | City of Savannah (18-04-7121P). | The Honorable Eddie DeLoach, Mayor, City of Savannah, 2 East Bay Street, Savannah, GA 31402. | Development Services Department, 5515 Abercorn Street, Savannah, GA 31405. | Apr. 9, 2019 | 135163
North Carolina:
Avery (FEMA Docket No.: B-1900) | Unincorporated areas of Avery County (18-04-5170P). | The Honorable Martha J. Hicks, Chair, Avery County Board of Commissioners, P.O. Box 640, Newland, NC 28657. | Avery County Inspections and Planning Department, 200 Montezuma Street, Newland, NC 28657. | Apr. 11, 2019 | 370010
Durham (FEMA Docket No.: B-1900) | City of Durham (18-04-5360P). | The Honorable Steve Schewel, Mayor, City of Durham, 101 City Hall Plaza, Durham, NC 27701. | Development Services Department, 101 City Hall Plaza, Durham, NC 27701. | Apr. 10, 2019 | 370086
Oklahoma:
Tulsa (FEMA Docket No.: B-1900) | City of Jenks (18-06-0767P). | The Honorable Josh Wedman, Mayor, City of Jenks, P.O. Box 2007, Jenks, OK 74037. | Engineering Department, 211 North Elm Street, Jenks, OK 74037. | Mar. 25, 2019 | 400209
Woodward (FEMA Docket No.: B-1900) | City of Woodward (18-06-1551P). | The Honorable John Meinders, Mayor, City of Woodward, 722 Main Street, Woodward, OK 73801. | Department of Community Development, 722 Main Street, Woodward, OK 73801. | Apr. 15, 2019 | 400232
Pennsylvania:
Allegheny (FEMA Docket No.: B-1904) | Township of South Fayette (19-03-0150P). | Mr. Miles Truitt, Interim Manager, Township of South Fayette, 515 Millers Run Road, Morgan, PA 15064. | Planning, Engineering and Building Department, 515 Millers Run Road, Morgan, PA 15064. | Apr. 12, 2019 | 421106
Allegheny (FEMA Docket No.: B-1904) | Township of Upper St. Clair (19-03-0150P). | The Honorable Mark D. Christie, President, Township of Upper St. Clair Board of Commissioners, 1820 McLaughlin Run Road, Upper St. Clair, PA 15241. | Department of Planning and Community Development, 1820 McLaughlin Run Road, Upper St. Clair, PA 15241. | Apr. 12, 2019 | 421119
Potter (FEMA Docket No.: B-1900) | Borough of Galeton (18-03-2057P). | The Honorable Joseph Petrencsik, President, Borough of Galeton Council, 21 East Main Street, Galeton, PA 16922. | Building Code Department, 972 Boom Station Road, Lawrenceville, PA 16929. | Mar. 25, 2019 | 420762
Potter (FEMA Docket No.: B-1900) | Township of Pike (18-03-2057P). | The Honorable Paul Pitchard, Chairman, Township of Pike Board of Supervisors, 68 Meeker Road, Galeton, PA 16922. | Township Hall, 76 Route 6 West, Galeton, PA 16922. | Mar. 25, 2019 | 421983
Potter (FEMA Docket No.: B-1900) | Township of West Branch (18-03-2057P). | The Honorable Stephen J. Piaquadio, Chairman, Township of West Branch Board of Supervisors, 187 Gross Road, Galeton, PA 16922. | Township Hall, 533 Germania Road, Galeton, PA 16922. | Mar. 25, 2019 | 421992
South Carolina: Charleston (FEMA Docket No.: B-1900) | Town of Sullivan's Island (18-04-6935P). | The Honorable Patrick O'Neil, Mayor, Town of Sullivan's Island, P.O. Box 427, Sullivan's Island, SC 29482. | Town Hall, 2056 Middle Street, Sullivan's Island, SC 29482. | Apr. 8, 2019 | 455418
Texas:
Collin (FEMA Docket No.: B-1900) | City of Celina (18-06-3631P). | The Honorable Sean Terry, Mayor, City of Celina, 142 North Ohio Street, Celina, TX 75009. | City Hall, 142 North Ohio Street, Celina, TX 75009. | Apr. 1, 2019 | 480133
Collin (FEMA Docket No.: B-1900) | Unincorporated areas of Collin County (18-06-1253P). | The Honorable Keith Self, Collin County Judge, 2300 Bloomdale Road, Suite 4192, McKinney, TX 75071. | Collin County Emergency Management Department, 4690 Community Avenue, Suite 200, McKinney, TX 75071. | Apr. 8, 2019 | 480130
Collin (FEMA Docket No.: B-1900) | Unincorporated areas of Collin County (18-06-3631P). | The Honorable Keith Self, Collin County Judge, 2300 Bloomdale Road, Suite 4192, McKinney, TX 75071. | Collin County Emergency Management Department, 4690 Community Avenue, Suite 200, McKinney, TX 75071. | Apr. 1, 2019 | 480130
Ellis (FEMA Docket No.: B-1900) | City of Waxahachie (18-06-0880P). | The Honorable Kevin Strength, Mayor, City of Waxahachie, P.O. Box 757, Waxahachie, TX 75168. | Engineering Department, 401 South Rogers Street, Waxahachie, TX 75165. | Mar. 28, 2019 | 480211
Kendall (FEMA Docket No.: B-1900) | Unincorporated areas of Kendall County (18-06-2515P). | The Honorable Darrel L. Lux, Kendall County Judge, 201 East San Antonio Avenue, Suite 122, Boerne, TX 78006. | Kendall County Engineering Department, 201 East San Antonio Avenue, Suite 101, Boerne, TX 78006. | Apr. 8, 2019 | 480417
Rockwall (FEMA Docket No.: B-1904) | City of Rockwall (18-06-1450P). | The Honorable Jim Pruitt, Mayor, City of Rockwall, 385 South Goliad Street, Rockwall, TX 75087. | City Hall, 385 South Goliad Street, Rockwall, TX 75087. | Apr. 15, 2019 | 480547
Tarrant (FEMA Docket No.: B-1904) | City of Arlington (18-06-0363P). | The Honorable Jeff Williams, Mayor, City of Arlington, P.O. Box 90231, Arlington, TX 76004. | City Hall, 101 West Abram Street, Arlington, TX 76010. | Apr. 19, 2019 | 485454
Tarrant (FEMA Docket No.: B-1900) | City of Haslet (18-06-2110P). | The Honorable Bob Golden, Mayor, City of Haslet, 101 Main Street, Haslet, TX 76052. | City Hall, 101 Main Street, Haslet, TX 76052. | Apr. 11, 2019 | 480600
Tarrant (FEMA Docket No.: B-1904) | City of North Richland Hills (18-06-2611P). | The Honorable Oscar Trevino, Jr., Mayor, City of North Richland Hills, 4301 City Point Drive, North Richland Hills, TX 76180. | Public Works Administration and Engineering Department, 4301 City Point Drive, North Richland Hills, TX 76180. | Apr. 15, 2019 | 480607
Wise (FEMA Docket No.: B-1900) | City of Bridgeport (18-06-2510P). | The Honorable Randy Singleton, Mayor, City of Bridgeport, 900 Thompson Street, Bridgeport, TX 76426. | Infrastructure Services Department, 901 Cates Street, Bridgeport, TX 76426. | Apr. 8, 2019 | 480677
Wise (FEMA Docket No.: B-1900) | Unincorporated areas of Wise County (18-06-2510P). | The Honorable J.D. Clark, Wise County Judge, P.O. Box 393, Decatur, TX 76234. | Wise County Engineering Department, 2901 South FM 51, Building 200, Decatur, TX 76234. | Apr. 8, 2019 | 481051
Utah: Davis (FEMA Docket No.: B-1900) | City of Kaysville (18-08-1167X). | The Honorable Katie Witt, Mayor, City of Kaysville, 23 East Center Street, Kaysville, UT 84037. | Public Works Department, 721 West Old Mill Lane, Kaysville, UT 84037. | Apr. 5, 2019 | 490046

[FR Doc. 2019-10390 Filed 5-17-19; 8:45 am]

BILLING CODE 9110-12-P